DEPARTMENT OF AGRICULTURE

Forest Service

Black Hills National Forest, Mystic Ranger District, South Dakota, Prairie Project Area Proposal and Analysis

AGENCY: Forest Service, USDA.

ACTION: Revised notice of intent to prepare an environmental impact statement.

SUMMARY: This notice revises an earlier Notice of Intent to prepare an environmental impact statement on a proposal to implement multiple resource management actions within the Prairie Project Area as directed by the Black Hills National Forest Land and Resource Management Plan and National level initiatives and policy such as the National Fire Plan and the Healthy Forest Initiative. The Prairie Project Area covers about 29,000 acres of National Forest System land and about 6,300 acres of interspersed private land within the lower rapid Creek watershed directly west of Rapid City, South Dakota. Proposed actions include: Promoting natural fuel breaks (via vegetation treatment) to reduce potential for large-scale intense wildfire; Reducing fuels that currently exist and fuel created by vegetation treatment within the wildland-urban interface; Improving wildlife habitat to protect critical big game winter range and habitat for a variety of plant and animal species; Supporting the preceding actions using commercial and non-commercial Vegetation treatments on an estimated 11,900 acres to reduce the density of pine trees; Providing a mix of motorized and non-motorized use opportunities.

DATES: The draft environmental impact statement is expected to be available for public review by May 2003 and the final environmental impact statement is expected to be completed by September 2003.

ADDRESSES: Send written comments on the DEIS to Robert J. Thompson, District Ranger, Black Hills National Forest, Mystic Ranger District, 803 Soo San Drive, Rapid City, South Dakota 57702. Telephone Number (605) 343-1567. Email: mailroom_r2_blackhills@fs.fed.us. With “Prairie” as subject.

FOR FURTHER INFORMATION CONTACT: Phill Grumstrup, Project Coordinator, Black Hills National Forest, Mystic Ranger District, at above address, phone (605) 343-1567.

SUPPLEMENTARY INFORMATION:

This revised Notice of Intent updates the original NOI which appeared Friday, July 12, 2002, in the Federal Register (67 FR pg. 46165). The actions proposed are in response to management direction provided by the Black Hills National Forest Land and Resource Management Plan (Forest Plan) and National-level initiatives and policy cited in the summary above. The site specific actions are proposed to reduce the potential for catastrophic wildfire in this ponderosa pine-dominated urban-interface setting. The project area lies along the east side of the Black Hills National Forest and directly west of Rapid City, South Dakota. Issues include: Fire and fuels hazard in the wildland-urban interface; support and opposition to vegetation treatment such as timber harvest; impacts of vegetation treatment and multiple forest uses on wildlife habitat; conflicting motorized and non-motorized use and travel management issues; maintaining and improving developed and dispersed recreation opportunities.

Purpose and Need for Action

The purpose of and need for the actions proposed in the Prairie Project is to: Reduce the potential for large-scale intense wildfire, reduce fuel loads and assure access for fire protection; protect big game winter range and provide habitat for a variety of plant and animal species; and provide for a variety of recreation opportunities including motorized and non-motorized uses while moving toward or meeting related Forest Plan Goals and Objectives, consistent with Forest Plan Standards and Guidelines.

Proposed Action

This revised NOI identifies the changes made to the proposed action since the original NOI was published. Adjustments to the proposed acres are the result of strong public feedback asking the agency to be aggressive with fuels reduction and requesting that vegetative treatments be expanded to areas not initially covered in the proposal. Expanding the treatments is necessary to efficiently reduce the potential for catastrophic wildfire to communities at risk in this wildland-urban interface area. Specific adjustments to the proposed action are described below. Proposed actions include the following:

• There is no change in the range of activities and treatments proposed. The treatment acres relative to fuel breaks and thinning of ponderosa pine, and prescribed burning have increased.

• Reduce the potential for large-scale, intense wildfire by expanding the area treated to reduce the density of pine from the initially proposed 8,000 acres to about 11,900 acres. This may be done by using commercial timber harvest to thin out commercial size trees and using other methods to thin small, non-commercial size trees, removing conifers from hardwood stands such as aspen, bur oak and birch and by expanding and/or creating meadows. Thinning trees will reduce the potential for spreading crown fires by providing fuels breaks, lessening the risk from insects and disease, and by improving stand growth and vigor. Wood fiber will be provided to the local economy as a by-product of these actions.

• Reduce the amount of fuel that currently exists and fuel created by vegetation treatment activities. Treatment could include lopping, chipping, crushing, piling and burning; construction of up to 30 miles of constructed fuel breaks adjacent to private property, particularly those properties with houses and subdivisions; and increased prescribed burning of 4,000 acres to about 7,500 acres in order to have a greater impact on reducing fuels and the threat of wildfire.

• Manage big game winter range by providing openings for forage and protecting game animals during the critical winter period over a large portion of the area by expanding area closures to off-road motorized use seasonally or year-round.

• Provide a mix of motorized and non-motorized opportunities in the area by designating some areas for off-road ATV/4-wheeler use and other areas for non-motorized uses such as hiking, mountain biking and walk-in hunting.

• It is anticipated that one or more Forest Plan Amendments may be necessary to implement the proposed action or action alternatives.

Responsible Official

The Responsible Official for this decision will be John C. Twiss, Forest Supervisor, Black Hills National Forest, 25041 North Hwy. 16, Custer, SD 57730.

Nature of Decision To Be Made

The decision to be made is whether or not to implement the proposed action or alternatives at this time.

Scoping Process

Comments and input regarding the proposal have been received from the public and other groups and agencies during the 30-day (plus) public comment period that took place in July and August 2002. Response to the draft EIS will be sought from the interested public beginning in May 2003.

Comment Requested

This revised notice of intent simply identifies the adjustment and refinement of the original proposed action in response to public comment and feedback. There will be no additional scoping on this revised NOI. The next opportunity to comment will be on the Draft EIS. Comments on the DEIS will be requested during the 45 day comment period following the Notice of Availability, anticipated to be published in the Federal Register in May 2003 (See discussion below).

Early Notice of Importance of Public Participation in Subsequent Environmental Review

A draft environmental impact statement is being prepared for comment. The comment period on the draft environmental impact statement will be for 45 days from the date the Environmental Protection Agency publishes the Notice of Availability in the Federal Register in May 2003. The Forest Service believes, at this stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: May 12, 2003.
William G. Schleining,
Acting Forest Supervisor.

[FR Doc. 03-12235 Filed 5-15-03; 8:45 am]

BILLING CODE 3410-11-M